DEPARTMENT OF TRANSPORTATION

Federal Aviation Administration

14 CFR Part 39

[Docket No. 99-NE-49-AD; Amendment 39-12670; AD 2002-05-02]

RIN 2120-AA64

Airworthiness Directives; General Electric Company CF34-3A1 and -3B1 Series Turbofan Engines; Correction

AGENCY: Federal Aviation Administration, DOT.

ACTION: Final rule; correction.

SUMMARY: This document makes a correction to Airworthiness Directive (AD) 2002-05-02, applicable to General Electric Company (GE) CF34-3A1 and -3B1 series turbofan engines. AD 2002-05-02 was published in the Federal Register on March 8, 2002 (67 FR 10606). Information in the Mandatory Inspections Requirements Table is incorrect in two places. In all other respects, the original document remains the same.

EFFECTIVE DATE: April 12, 2002.

FOR FURTHER INFORMATION CONTACT: Barbara Caufield, Aerospace Engineer, Engine Certification Office, FAA, Engine and Propeller Directorate, 12 New England Executive Park, Burlington, MA 01803-5299; telephone (781) 238-7146; fax (781) 238-7199.

SUPPLEMENTARY INFORMATION: A final rule airworthiness directive FR DOC. 02-5527, applicable to General Electric Company (GE) CF34-3A1 and -3B1 series turbofan engines, was published in the Federal Register on March 8, 2002 (67 FR 10606). The following correction is needed:

§ 39.13 [Corrected]

On page 10608, in AD 2002-05-02, in Table 804 Mandatory Inspection Requirements, in the Part nomenclature column, fourth line, “HPT Rotor Outer Torque Coupling (all)” is corrected to read “HPT Rotor Outer Torque Coupling” and in the eleventh line, “Stage 3-8 Compressor Rotor Spool (all)”, in the Mandatory inspection column for that line, “All Areas (FPI)” is corrected to read “All Non-coated Areas (FPI)”.

Issued in Burlington, MA, on June 17, 2002.
Jay J. Pardee,
Manager, Engine and Propeller Directorate, Aircraft Certification Service.

[FR Doc. 02-16175 Filed 6-26-02; 8:45 am]

BILLING CODE 4910-13-P